NATIONAL AERONAUTICS AND SPACE ADMINISTRATION

[Notice (08-076)]

NASA Advisory Committee; Notice of Renewal.

AGENCY: National Aeronautics and Space Administration (NASA).

ACTION: Notice of Renewal of the Charter for the NASA Advisory Council.

SUMMARY: Pursuant to sections 14(b)(1) and 9(c) of the Federal Advisory Committee Act (Pub. L. 92-463), and after consultation with the Committee Management Secretariat, General Services Administration, the Administrator of the National Aeronautics and Space Administration (NASA) has determined that a renewal of the Charter for the Agency-established NASA Advisory Council is necessary and in the public interest in connection with the performance of duties imposed upon NASA by law. The purpose of the NASA Advisory Council is to provide advice and make recommendations to the NASA Administrator on Agency programs, policies, plans, financial controls and other matters pertinent to the Agency's responsibilities. The structure and duties of this Council is unchanged.

FOR FURTHER INFORMATION CONTACT: Ms. P. Diane Rausch, Advisory Committee Management Officer, Office of External Relations, National Aeronautics and Space Administration, Washington, DC 20546, 202-358-4510.

Dated: October 2, 2008.
P. Diane Rausch,
Advisory Committee Management Officer, National Aeronautics and Space Administration.

[FR Doc. E8-24036 Filed 10-8-08; 8:45 am]

BILLING CODE 7510-13-P